NATIONAL SCIENCE FOUNDATION

Advisory Committee for Social, Behavioral, and Economic Sciences; Notice of Meeting

In accordance with Federal Advisory Committee Act (Pub. L. 92-463, as amended), the National Science Foundation announces the following meeting:

Name: Advisory Committee for Social, Behavioral, and Economic Sciences (#1171).

Date/Time: November 19, 2009; 8:30 a.m. to 5:30 p.m. November 20, 2009; 8:30 a.m. to 3 p.m.

Place: National Science Foundation, 4201 Wilson Boulevard, Stafford I, Room 1235, Arlington, VA 22230.

Type of Meeting: Open.

Contact Person: Ms. Lisa Jones, Office of the Assistant Director, Directorate for Social, Behavioral, and Economic Sciences, National Science Foundation, 4201 Wilson Boulevard, Room 905, Arlington, Virginia 22230, 703-292-8700.

Summary of Minutes: May be obtained from contact person listed above.

Purpose of Meeting: To provide advice and recommendations to the National Science Foundation on major goals and policies pertaining to Social, Behavioral and Economic Sciences Directorate programs and activities.

Agenda:

Thursday

Updates and discussions on continuing activities.

• Budget process and status: FY 2010, FY 2011, and FY 2012.

• SBE Future Directions.

• Division Breakout Sessions: Overview and Key issues.

• Report from Breakout Sessions.

NSF Strategic Plan.

Discussion with NSF Director and Deputy Director.

Follow-up to SBE Science in Federal Context.

Friday

Updates and discussion on continuing activities.

• CISE and Cyberinfrastructure.

• SBE/CISE Joint AC Subcommittee on Portfolio Analysis.

• Climate and Energy Research.

• GPRA, OMB/OSTP Priorities and SciSIP.

Innovation.

Open Discussion.

Planning for FY 2010 and Beyond.

Dated: October 22, 2009.
Susanne Bolton,
Committee Management Officer.

[FR Doc. E9-25769 Filed 10-26-09; 8:45 am]

BILLING CODE 7555-01-P